DEPARTMENT OF COMMERCE

National Oceanic and Atmospheric Administration

[RTID 0648-XD725]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Mackerel Cobia Committee, Southeast Data, Assessment and Review (SEDAR) Committee, and Snapper Grouper Committee. The meeting week will also include a formal public comment session and meetings of the Full Council.

DATES: The Council meeting will be held from 1:30 p.m. on Monday, March 4, 2024, until 12 p.m. on Friday, March 8, 2024.

ADDRESSES: Meeting address: The meeting will be held at the Villas by the Sea Resort, 1175 Beachview Drive, Jekyll Island, GA 31527; phone: (912) 635-2521. The meeting will also be available via webinar. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/march-2024-council-meeting/. Written comments will be accepted from February 16, 2024, until March 8, 2024. These comments are accessible to the public, part of the Administrative Record of the meeting, and immediately available for Council consideration. A formal public comment session will also be held during the Council meeting.

The items of discussion in the individual meeting agendas are as follows:

Council Session I, Monday, March 4, 2024, 1:30 p.m. Until 5 p.m.

The Council will receive reports from NOAA Office of Law Enforcement, The Council's Law Enforcement Advisory Panel (AP), the U.S. Coast Guard, Council liaisons, and state agencies, and an update on Best Fishing Practices and Outreach conducted thus far in 2024. The Council will discuss potential modifications to the Southeast For-Hire Integrated Electronic Reporting (SEFHIER) Program and also consider limited-entry in South Atlantic For-Hire Fisheries.

Mackerel Cobia Committee, Tuesday, March 5, 2024, 8:30 a.m. Until 10 a.m.

The Committee will receive recommendations from the Law Enforcement AP and is scheduled to approve a plan for the Council to conduct port meetings for the mackerel fishery in 2024.

SEDAR Committee, Tuesday, March 5, 2024, 10 a.m. Until 12 p.m. (Partially-Closed Session)

The Committee will meet in Closed Session to approve appointments to SEDAR Panels and workgroups. The Committee will meet in Open Session to approve Terms of Reference for upcoming stock assessments and other business related to stock assessments.

Snapper Grouper Committee, Tuesday, March 5, 2024, 1:30 p.m. Until 5 p.m., Wednesday, March 6, 2024, 8:30 a.m. Until 3:45 p.m., and Thursday, March 7, 2024, 8:30 a.m. Until 12 p.m.

The Committee will receive a briefing on Exempted Fishing Permit applications and a presentation on projections for 2024 recreational seasons for red snapper and gag from NOAA Fisheries. The Committee will consider recommendations from the Wreckfish Subcommittee for Amendment 48 to the Snapper Grouper Fishery Management Plan addressing the wreckfish fishery and is scheduled to approve the amendment for public hearings. The Committee will receive Law Enforcement AP recommendations and public scoping comments relative to Regulatory Amendment 36 addressing gag and black grouper vessel limits and on-demand gear for black sea bass, and receive a stock assessment presentation and recommendations from its Scientific and Statistical Committee (SSC) relative to black sea bass and the development of Snapper Grouper Amendment 56.

The Committee will receive Law Enforcement AP recommendations relative to Snapper Grouper Amendment 46 addressing a private recreational permit for the snapper grouper fishery and consider modifications to actions currently in the amendment, review preliminary analysis for Amendment 55 addressing management measures for scamp and yellowmouth grouper, and discuss Regulatory Amendment 35 addressing red snapper management and consider modifications and additional actions. The Committee will receive an update on development of a Management Strategy Evaluation for the Snapper Grouper Fishery and consider SSC recommendations, an overview of commercial permits, and discuss topics for the March 2024 meeting of the Snapper Grouper AP.

Wednesday, March 6, 2024, 4 p.m.—Public comment will be accepted from individuals attending the meeting in person and via webinar on all items on the Council meeting agenda. The Council Chair will determine the amount of time provided to each commenter based on the number of individuals wishing to comment.

Council Session II, Thursday, March 7, 2024, 1:30 p.m. Until 5 p.m. and Friday, March 8, 2024, 8:30 a.m. Until 12 p.m.

The Council will receive a litigation brief if needed, receive a staff report, and a presentation from NOAA Fisheries on Equity and Environmental Justice. The Council will receive reports from NOAA Fisheries Southeast Regional Office and the Southeast Fisheries Science Center, and review the Council's workplan and upcoming meetings. The Council will receive Committee reports and discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: February 9, 2024.
Rey Israel Marquez,
Acting Deputy Director, Office of Sustainable Fisheries, National Marine Fisheries Service.

[FR Doc. 2024-03070 Filed 2-13-24; 8:45 am]

BILLING CODE 3510-02-P